DEPARTMENT OF THE INTERIOR

Fish and Wildlife Service

Information Collection Renewal Submitted to the Office of Management and Budget (OMB) for Approval Under the Paperwork Reduction Act; OMB Control Number 1018-0112; U.S. Fish and Wildlife Service Employee Exit Follow-Up, Authorized by the Merit System Principles (5 U.S.C. 2301)

AGENCY: Fish and Wildlife Service, Interior.

ACTION: Notice; request for comments.

SUMMARY: In accordance with the Paperwork Reduction Act of 1995, the Fish and Wildlife Service (We/Service) is requesting that OMB extend an existing approval to collect information from former employees. We will use the information that we collect to assist us in developing strategies to improve employee retention.

DATES: You must submit comments on or before December 27, 2004.

ADDRESSES: Send your comments on this information collection renewal to the Desk Officer for the Department of the Interior at OMB-OIRA at (202) 395-6566 (fax) or at OIRA_DOCKET@OMB.eop.gov (e-mail). Please provide a copy of your comments to Hope Grey, Information Collection Clearance Officer, Fish and Wildlife Service, MS 222-ARLSQ, 4401 N. Fairfax Drive, Arlington, VA 22203 (mail); (703) 358-2269 (fax); or at hope_grey@fws.gov (e-mail).

FOR FURTHER INFORMATION CONTACT: To request a copy of the information collection requirements, the related form, or explanatory information, contact Hope Grey at the address or fax number listed above or by telephone at (703) 358-2482.

SUPPLEMENTATARY INFORMATION: We have sent a request to OMB to renew approval of the information collection clearance requirements for an Employee Exit Follow-up Survey. Currently, we have approval from OMB to collect information under OMB control number 1018-0112. This approval expires on November 30, 2004. We may not conduct or sponsor, and a person is not required to respond to, a collection of information unless we display a currently valid OMB control number. OMB regulations at 5 CFR 1320, which implement provisions of the Paperwork Reduction Act of 1995 (44 U.S.C. 3501 et seq.), require that interested members of the public and affected agencies have an opportunity to comment on information collection and recordkeeping activities (see 5 CFR 1320.8(d)). OMB has up to 60 days to approve or disapprove our information collection request, but their response may be given as early as 30 days after our submittal. Therefore, to ensure consideration, send your comments to OMB by the date listed in the DATES section near the beginning of this notice.

On August 6, 2004, we published in the Federal Register (69 FR 47948) a 60-day notice of our intent to request renewal of this information collection authority from OMB. In that notice, we solicited public comments for 60 days ending on October 5, 2004. We received one comment regarding this notice. The commenter expressed general opposition to the use of the survey and encouraged the Service to protect wildlife. The commenter did not provide specific reasons for objecting to the survey or address the information collected. Service management has made it a high priority to ensure that we retain the highest caliber employees possible. We can do this only if we examine and analyze the reasons for employee separation from the Service. Therefore, we have not made any changes to the survey based on this comment.

The Fish and Wildlife Service is the principal Federal agency responsible for conserving, protecting, and enhancing fish, wildlife, and plants and their habitats for the continuing benefit of the American people. We manage the 95-million-acre National Wildlife Refuge System, which encompasses 545 national wildlife refuges, thousands of small wetlands, and other special management areas. We also operate 69 national fish hatcheries, 64 fishery resource offices, and 81 ecological services field stations. We enforce Federal wildlife laws, administer the Endangered Species Act, manage migratory bird populations, restore nationally significant fisheries, conserve and restore wildlife habitat such as wetlands, and help foreign governments with their conservation efforts. We also oversee the Federal Assistance program that distributes hundreds of millions of dollars of excise taxes on fishing and hunting equipment to State fish and wildlife agencies. We have made it a high priority to recruit and retain valued employees to accomplish these responsibilities. As part of an active career development program, we have instituted an Employee Exit Follow-up Survey to collect feedback from former Service employees so that we may discover relevant issues that impact employee retention. If this survey were not used, there would be no way we could analyze the reasons for employee separation.

We estimate that the total annual burden associated with the request will be 100 hours. This represents an average of 400 respondents with each taking an estimated 15 minutes to complete the survey.

Title: U.S. Fish and Wildlife Service Employee Exit Follow-up, authorized by the Merit System Principles (5 U.S.C. 2301).

OMB Control Number: 1018-0112.

Form Number: FWS Form 3-2186.

Frequency of Collection: Occasionally.

Description of Respondents: Former Fish and Wildlife Service employees.

Total Annual Responses: 400.

Total Annual Burden Hours: 100 hours.

We again invite comments on this information collection renewal on: (1) Whether or not this collection of information is necessary for us to properly perform our functions, including whether or not this information will have practical utility; (2) the accuracy of our estimate of burden, including the validity of the methodology and assumptions we use; (3) ways to enhance the quality, utility, and clarity of the information we are proposing to collect; and (4) ways for us to minimize the burden of the collection of information on respondents, including through the use of appropriate automated, electronic, mechanical, or other technological collection techniques or other forms of information technology.

Our practice is to make comments, including names and home addresses of respondents, available for public review during regular business hours. Individual respondents may request that we withhold their home addresses from the record, which we will honor to the extent allowable by law. If you wish to withhold your name and/or address, you must state this clearly at the beginning of your comment. We will not consider anonymous comments. We generally make all submissions from organizations or businesses, and from individuals identifying themselves as representatives or officials of organizations or businesses, available for public inspection in their entirety.

Dated: November 5, 2004.
Hope Grey,
Information Collection Clearance Officer, Fish and Wildlife Service.

[FR Doc. 04-26150 Filed 11-24-04; 8:45 am]

BILLING CODE 4310-55-P